DEPARTMENT OF LABOR

Employment and Training Administration

[TA-W-57,324]

Plymouth Rubber Co. Inc., Canton, MA; Notice of Termination of Investigation

Pursuant to Section 221 of the Trade Act of 1974, as amended, an investigation was initiated on June 7, 2005 in response to a petition filed by a company official on behalf of workers at Plymouth Rubber Co. Inc., Canton, Massachusetts.

The petitioner has requested that the petition be withdrawn. Consequently, further investigation would serve no purpose, and the investigation has been terminated.

Signed at Washington, DC, this 20th day of June, 2005.
Linda G. Poole,
Certifying Officer, Division of Trade Adjustment Assistance.

[FR Doc. E5-3765 Filed 7-14-05; 8:45 am]

BILLING CODE 4510-30-P